DEPARTMENT OF THE INTERIOR

National Park Service

[NPS-NCCR-NACA-0511-7479; 3086-SYM]

National Capital Memorial Advisory Commission Meeting

AGENCY: National Park Service, Interior.

ACTION: Notice of meeting.

SUMMARY: Notice is hereby given that the National Capital Memorial Advisory Commission (the Commission) will meet at the National Building Museum, Room 312, 401 F Street, NW., Washington, DC on Thursday, June 23, 2011, at 10:30 a.m., to consider matters pertaining to commemorative works in the District of Columbia and its environs.

DATES: Thursday, June 23, 2011.

ADDRESSES: National Building Museum, Room 312, 401 F Street, NW., Washington, DC 20001.

FOR FURTHER INFORMATION CONTACT: Ms. Nancy Young, Secretary to the Commission, by telephone at (202) 619-7097, by e-mail at nancy_young@nps.gov, by telefax at (202) 619-7420, or by mail at the National Capital Memorial Advisory Commission, 1100 Ohio Drive, SW., Room 220, Washington, DC 20242.

SUPPLEMENTARY INFORMATION: The Commission was established by Public Law 99-652, the Commemorative Works Act (40 U.S.C. Chapter 89 et seq.), to advise the Secretary of the Interior (the Secretary) and the Administrator, General Services Administration, (the Administrator) on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC and its environs.

The members of the Commission are as follows:

Director, National Park Service,

Administrator, General Services Administration,

Chairman, National Capital Planning Commission,

Chairman, Commission of Fine Arts,

Mayor of the District of Columbia,

Architect of the Capitol,

Chairman, American Battle Monuments Commission,

Secretary of Defense.

The agenda for the meeting is as follows:

(1) Memorial to American Veterans Disabled for Life—Design presentation.

(2) Memorial to Presidents John Adams and his Legacy—Review of an Alternative Sites Study presented by the Adams Memorial Foundation.

(3) Review of legislation proposed in the 112th Congress.

(a) H.R. 854, a bill to authorize the Peace Corps Commemorative Foundation to establish a memorial to commemorate the formation of the Peace Corps and the ideals of world peace and friendship upon which the Peace Corps was founded.

(b) S. 253 and H.R. 938, bills to establish a World War I National Memorial Commission and reestablish the District of Columbia World War Memorial as the National World War I Memorial.

(c) S. 883, a bill to authorize the Liberty Fund to establish a memorial to honor free persons and slaves who fought for independence, liberty, and justice for all during the American Revolution.

(d) H.R. 1559, to authorize the Benjamin Harrison Society to establish a memorial to the Patriots of the American Revolution and the War of 1812.

(e) H.R. 1619, “The MADE Act of 2011,” to amend the Commemorative Works Act to require that commemorative works in the District of Columbia be constructed of materials that are grown, produced or manufactured in the United States.

(4) Other Business.

The meeting will begin at 10:30 a.m. and is open to the public. Persons who wish to file a written statement or testify at the meeting or who want further information concerning the meeting may contact Ms. Nancy Young, Secretary to the Commission. Before including your address, phone number, e-mail address, or other personal identifying information in your comment, you should be aware that your entire comment—including your personal identifying information—may be made publicly available at any time. While you can ask us in your comment to withhold your personal identifying information from public review, we cannot guarantee that we will be able to do so.

Dated: May 18, 2011.
Woody Smeck,
Acting Regional Director, National Capital Region.

[FR Doc. 2011-13999 Filed 6-6-11; 8:45 am]

BILLING CODE 4312-JK-P